DEPARTMENT OF ENERGY

Federal Energy Regulatory Commission

[Project No. 15351-000]

Energy Recycling Company, LLC; Notice of Preliminary Permit Application Accepted for Filing and Soliciting Comments, Motions To Intervene, and Competing Applications

On April 24, 2024, Energy Recycling Company, LLC filed an application for a preliminary permit, pursuant to section 4(f) of the Federal Power Act (FPA), proposing to study the feasibility of the proposed Iron Range Pumped Storage Project, a closed loop pumped storage project, to be located near the City of Marble, Itasca County, Minnesota. The sole purpose of a preliminary permit, if issued, is to grant the permit holder priority to file a license application during the permit term. A preliminary permit does not authorize the permit holder to perform any land-disturbing activities or otherwise enter upon lands or waters owned by others without the owners' express permission.

The proposed Iron Range Pumped Storage Project would consist of the following: (1) a lower reservoir proposed approximately 2,700 feet below the ground surface; (2) an enclosed upper reservoir proposed to be constructed of a concrete lined rockfill embankment; (3) a reinforced concrete 18-foot-diameter intake with a “morning glory” configuration; (4) a 2,800-foot-long vertical shaft penstock having a diameter of 16 feet connecting the upper reservoir to the powerhouse; (5) a 200-foot-long, 70-foot-wide, and 130-foot-high underground powerhouse located approximately 2,700 feet below the ground surface; (6) a 240-foot-long and 40-foot-high underground transformer gallery lined with concrete; (7) two 333-megawatt hydroelectric pump/turbines, (8) a new interconnection line approximately 200 to 500 feet long, joining a new substation adjacent to the project to an existing 230-kilovolt transmission line; and (9) a new pumping system to carry water to the upper reservoir. The proposed project would have an estimated annual generation of 1,450 gigawatt-hours.

Applicant Contact: Douglas A. Spaulding, Nelson Energy, 1030 Tyrol Trail, Minnesota, MN 55416; phone: (612) 599-8493.

FERC Contact: Shivani Khetani; phone: (212) 273-5917, or by email at shivani.khetani@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15351-000.

More information about this project, including a copy of the application, can be viewed or printed on the “eLibrary” link of the Commission's website at https://elibrary.ferc.gov/eLibrary/search. Enter the docket number (P-15351) in the docket number field to access the document. For assistance, contact FERC Online Support.

Dated: September 18, 2024.
Debbie-Anne A. Reese,
Acting Secretary.

[FR Doc. 2024-21886 Filed 9-24-24; 8:45 am]

BILLING CODE 6717-01-P